DEPARTMENT OF COMMERCE

International Trade Administration

[A-337-803]

Fresh Atlantic Salmon from Chile: Termination of the Five-Year Sunset Review

AGENCY: Import Administration, International Trade Administration, Department of Commerce.

ACTION: Termination of the five-year sunset review of the antidumping duty order on fresh Atlantic salmon from Chile.

SUMMARY: On June 2, 2003, the Department of Commerce (“the Department”) initiated a sunset review of the antidumping duty order on fresh Atlantic salmon from Chile. See Initiation of Five-Year Sunset Review, 68 FR 32728 (June 2, 2003). In the sunset review of this order, no domestic party responded to the notice of initiation by the applicable deadline. On July 25, 2003, the Department published in the Federal Register final results of the changed circumstances review, revocation of order, and rescission of administrative review with respect to this order. See Fresh Atlantic Salmon from Chile: Final Results of Antidumping Duty Changed Circumstances Review, Revocation of Order, and Rescission of Administrative Review, 68 FR 44043 (July 25, 2003). In the final results of the changed circumstances review, the Department determined to revoke the order on fresh Atlantic salmon from Chile, effective July 1, 2001, because domestic interested parties expressed no interest in the continuation of this order. Based on the final results of the changed circumstances review on fresh Atlantic salmon from Chile, which revoked the order as of a date prior to the date of the sunset revocation, the Department is terminating this sunset review.

EFFECTIVE DATE: August 13, 2003.

FOR FURTHER INFORMATION CONTACT: Martha V. Douthit or Kelly Parkhill, Office of Policy, Import Administration, International Trade Administration, U.S. Department of Commerce, 14th Street and Constitution Avenue, NW., Washington, DC 20230; telephone: (202) 482-5050 or (202) 482-3791, respectively.

SUPPLEMENTARY INFORMATION

The Applicable Statute and Regulations

The Department's procedures for the conduct of sunset reviews are set forth in section 751(c) of the Tariff Act of 1930 and 19 CFR 351.218. Guidance on methodological or analytical issues relevant to the Department's conduct of sunset reviews is set forth in the Department's Policy Bulletin 98:3—Policies Regarding the Conduct of Five-Year (“Sunset”) Reviews of Antidumping and Countervailing Duty Orders; Policy Bulletin, 63 FR 18871 (April 16, 1998) (“Sunset Policy Bulletin”).

Scope of Order

The product covered by this order is fresh, farmed Atlantic salmon, whether imported “dressed” or cut. Atlantic salmon is the species Salmo salar, in the genus Salmo of the family salmoninae. “Dressed” Atlantic salmon refers to salmon that has been bled, gutted, and cleaned. Dressed Atlantic salmon may be imported with the head on or off; with the tail on or off; and with the gills in or out. All cuts of fresh Atlantic salmon are included in the scope of the order. Examples of cuts include, but are not limited to: crosswise cuts (steaks), lengthwise cuts (fillets), lengthwise cuts attached by skin (butterfly cuts), combinations of crosswise and lengthwise cuts (combination packages), and Atlantic salmon that is minced, shredded, or ground. Cuts may be subjected to various degrees of trimming, and imported with the skin on or off and with the “pin bones” in or out. Excluded from the scope are (1) fresh Atlantic salmon that is “not farmed” (i.e., wild Atlantic salmon); (2) live Atlantic salmon; and (3) Atlantic salmon that has been subject to further processing, such as frozen, canned, dried, and smoked Atlantic salmon, or processed into forms such as sausages, hot dogs, and burgers. The merchandise subject to this order is classifiable as item numbers 0302.12.0003 and 0304.10.4093 of the Harmonized Tariff Schedule of the United States (HTSUS). Although the HTSUS statistical reporting numbers are provided for convenience and customs purposes, the written description of the merchandise is dispositive.

Background

On June 9, 1998, the Department issued an antidumping duty order on fresh Atlantic salmon from Chile. See Final Determination of Sales at Less Than Fair Value: Fresh Atlantic Salmon From Chile, 63 FR 31411 (June 9, 1998). On June 2, 2003, the Department published in the Federal Register notice of initiation of the sunset review on fresh Atlantic salmon from Chile in accordance with 751(c) of the Act. See Initiation of Five-Year Sunset Review, 68 FR 32728 (June 2, 2003). In addition, as a courtesy to interested parties, the Department sent letters, via certified and registered mail, to each party listed on the Department's most current service list for this proceeding to inform them of the automatic initiation of a sunset review on this order. However, no domestic interested party in the sunset review on this order responded to the notice of initiation by the June 17, 2003, deadline (See 19 CFR 351.218(d)(1)(I) of Procedures for Conducting Five-Year (“Sunset”) Reviews of Antidumping and Countervailing Duty Orders, 63 FR 13520 (March 20, 1998)).

On July 25, 2003, the Department published final results of the antidumping duty changed circumstances review, revocation of order, and rescission of administrative review. In the changed circumstances review the Department determined to revoke the antidumping duty order on fresh Atlantic salmon from Chile, effective July 1, 2001, the first day after the last completed review covering the 2001-2002 review period.

Determination to Terminate

Pursuant to section 751(c)(3)(A) of the Act and section 351.218(d)(1)(iii)(B)(3) of the Sunset Regulations, if no interested party responds to the notice of initiation, the Department will issue a final determination, within 90 days after the initiation of the review, revoking the finding or order or terminating the suspended investigation. In this sunset review, no domestic interested party responded to the notice of initiation by the applicable deadline. We would normally have revoked this order effective July 30, 2003, pursuant to 19 CFR 351.222(i)(2). However, in light of the final results of the changed circumstances review revoking this order, as of July 1, 2001, the Department is terminating the sunset review on fresh Atlantic salmon from Chile.

Effective Date of Revocation

As a result of the changed circumstances review on fresh Atlantic salmon from Chile, the Department has instructed the U.S. Bureau of Customs and Border Protection to terminate the suspension of liquidation of the merchandise subject to this order entered, or withdrawn from a warehouse, on or after July 1, 2001. The effective date of revocation is July 1, 2001, the first day after the last completed review covering the 2001-2002 review period (68 FR 44043 (July 25, 2003)).

Dated: August 7, 2003.
James J. Jochum,
Assistant Secretary for Import Administration.

[FR Doc. 03-20664 Filed 8-12-03; 8:45 am]

BILLING CODE 3510-DS-P